PEACE CORPS

Notice of an Amendment to a Privacy Act System of Records

AGENCY: Peace Corps.

ACTION: Notice of an amendment to a Privacy Act system of records.

SUMMARY: As required under the Privacy Act of 1974, (5 U.S.C. 552a), as amended, the Peace Corps is giving notice of an amendment to a Privacy Act system of records, PC-10 Office of Private Sector Initiatives Database. The amendment removes contributor's birth date and adds contributor's e-mail address in the categories of records in the system. It also makes Peace Corps' Routine Use M applicable to the system.

DATES: This action will be effective without further notice on November 24, 2008 unless comments are received by November 10, 2008 that would result in a contrary determination.

ADDRESSES: You may submit comments by e-mail to nmiller@peacecorps.gov. Include Privacy Act System of Records in the subject line of the message. You may also submit comments by mail to Nancy G. Miller, Office of the General Counsel, Peace Corps, Suite 8200, 1111 20th Street, NW., Washington, DC 20526. Contact Nancy G. Miller for copies of comments.

FOR FURTHER INFORMATION CONTACT: Nancy G. Miller, Associate General Counsel, 202-692-2150, nmiller@peacecorps.gov.

SUPPLEMENTARY INFORMATION: The Privacy Act, 5 U.S.C. 552a, provides that the public will be given a 30-day period in which to comment on the new system. The Office of Management and Budget (OMB), which has oversight responsibility under the Act, requires a 40-day period in which to review the proposed system. In accordance with 5 U.S.C. 552a, Peace Corps has provided a report on this system to OMB and the Congress.

System name:

PC-10, Office of Private Sector Initiatives Database.

Security classification:

Not applicable.

System location:

Office of Private Sector Initiatives, Peace Corps, 1111 20th St., NW., Washington, DC 20526.

Categories of individuals covered by the system:

Individuals making donations to Peace Corps partnership projects or inquiring about partnership projects; volunteers.

Categories of records in the system:

For donors: name, address, telephone number, e-mail address, donor number, and contribution amount. For volunteers: name, address, and close of service date.

Authority for maintenance of the system:

The Peace Corps Act, 22 U.S.C. 2501 et seq.

Purpose(s):

To record and track donations to the Peace Corps and to provide program and project updates to donors.

Routine uses of records maintained in the system, including categories of users and the purpose of such users:

General routine uses A through M apply to this system.

Disclosure to consumer reporting agencies:

None.

Policies and practices for storing, retrieving, accessing, retaining, and disposing of records in the system:

Storage:

On paper and in a computerized database.

Retrievability:

By donor name, donor number, project name or project number.

Safeguards:

Computer records are maintained in a secure, password-protected computer system. Paper records are maintained in lockable file cabinets. All records are maintained in a secure, access-controlled area.

Retention and disposal:

Records are kept until three years after completion of project, and then retired to the Federal Records Center to be maintained and destroyed in accordance with General Records Schedule 6.1.2.

System manager(s) and address:

Director, Office of Private Sector Initiative, Peace Corps, Office of Private Sector Initiatives, 1111 20th St., NW., Washington, DC 20526.

Notification procedure:

Any individual who wants notification that this system of records contains a record about him or her should make a written request to the System Manager. Requesters will be required to provide adequate identification, such as a driver's license, employee identification card, or other identifying documentation. Additional identification may be required in some instances. Complete Peace Corps Privacy Act procedures are set out in 22 CFR part 308.

Record access procedures:

Any individual who wants access to his or her record should make a written request to the System Manager. Requesters will be required to provide adequate identification, such as a driver's license, employee identification card, or other identifying documentation. Additional identification may be required in some instances. Complete Peace Corps Privacy Act procedures are set out in 22 CFR part 308.

Contesting record procedures:

Any individual who wants to contest the contents of a record should make a written request to the System Manager. Requesters will be required to provide adequate identification, such as a driver's license, employee identification card, or other identifying documentation. Additional identification may be required in some instances. Requests for correction or amendment must identify the record to be changed and the corrective action sought. Complete Peace Corps Privacy Act procedures are set out in 22 CFR part 308.

Record source categories:

Donor and Peace Corps volunteers.

Exemptions claimed for the system:

None.

Dated: October 3, 2008.
Carl R. Sosebee,
Acting General Counsel.

[FR Doc. E8-23891 Filed 10-8-08; 8:45 am]

BILLING CODE 6051-01-P